DEPARTMENT OF JUSTICE

Office of Justice Programs

[OJP (OJP)-1303]

Meeting of the Global Justice Information Network Advisory Committee

AGENCY: Office of Justice Programs, Office of the Assistant Attorney General, Justice.

ACTION: Notice of meeting.

SUMMARY: Announcement of a meeting of the Global Justice Information Network Advisory Committee to discuss the Global Initiative, as described in Initiative A07 “Access America: Re-Engineering Through Information Technology.”

DATES: The meeting will take place on Wednesday, October 18, 2000, from 9:00 a.m. to 5:00 p.m. ET.

ADDRESSES: The meeting will take place at the Hotel Washington, Ballroom, 515 15th Street, NW., Washington, DC 20004; Phone: (202) 638-5900.

FOR FURTHER INFORMATION CONTACT: To register to attend the meeting, please contact Karen Sublett, Global Network Coordinator, Office of the Assistant Attorney General, Office of Justice Programs, 810 7th Street NW., Suite 6400, Washington, DC 20531; Phone: (202) 616-3463. [This is not a toll-free number]. Anyone requiring special accommodations should contact Ms. Sublett at least seven (7) days in advance of the meeting.

SUPPLEMENTARY INFORMATION:

Authority

The Global Justice Information Network Advisory Committee was established pursuant to section 10(a)(2) of the Federal Advisory Committee Act (Public Law 92-463), as amended.

Purpose

The Global Justice Information Network Advisory Committee (GAC) will act as the focal point for justice information systems integration activities in order to facilitate the coordination of technical, funding, and legislative strategies in support of the Administration's justice priorities.

The GAC will guide and monitor the development of the Global concept. It will advise the Attorney General, the President (through the Attorney General), and local, state, tribal, and federal policymakers in the executive, legislative, and judicial branches and advocate for strategies for accomplishing a Global Network capability.

The Committee will meet to address the Global Initiative, as described in Initiative A07 “Access America: Re-Engineering Through Information Technology”. This meeting will be open to the public, and registrations will then be accepted on a space available basis. Interested persons whose registrations have been accepted may be permitted to participation in discussions at the discretion of the meeting chairman and with the approval of the Designated Federal Employee (DFE). Further Information about this meeting can be obtained from Karen Sublett, DFE, at (202) 616-3463.

Dated: September 27, 2000.
Karen Sublett,
Global Network Coordinator, Office of the Assistant Attorney General, Office of Justice Programs.

[FR Doc. 00-25281 Filed 10-2-00; 8:45 am]

BILLING CODE 4410-18-P